DEPARTMENT OF DEFENSE

Department of the Navy

Public Hearing for the Draft Environmental Impact Statement for Replacement Pier and Dredging at Naval Station San Diego, San Diego, CA

AGENCY: Department of Navy, DOD.

ACTION: Notice.

SUMMARY: The Department of the Navy (Navy) has prepared and filed with the United States Environmental Protection Agency (EPA) a Draft Environmental Impact Statement (DEIS) for a Replacement Pier and Dredging at Naval Station (NAVSTA) San Diego, San Diego, California. A public hearing will be held to receive oral and written comments on the DEIS. Federal, state and local agencies, and interested individuals are invited to be present or represented at the hearing.

DATES: The public hearing will be held on November 16, 2000 from 7 p.m. to 10 p.m.

ADDRESSES: The hearing will be held at the Holiday Inn, Terrace Ballroom, 700 National City Boulevard (at 8th Street), National City, California.

FOR FURTHER INFORMATION CONTACT: Grace S. Peñafuerte, Naval Facilities Engineering Command, Southwest Division, telephone (619) 556-7773, facsimile (619) 556-8929, or e-mail: penafuertegs@efdsw.navfac.navy.mil.

SUPPLEMENTARY INFORMATION: Pursuant to Section 102(2)(c) of the National Environmental Policy Act (NEPA) of 1969, as implemented by the Council on Environmental Quality Regulations (40 CFR Parts 1500-1508), the Navy has prepared and filed with the EPA a DEIS for a replacement pier and dredging at NAVSTA San Diego, California, to support ships currently homeported in the San Diego Naval Complex.

A Notice of Intent for this DEIS was published in the Federal Register on May 12, 1999 (64 FR 25480). A public scoping meeting was held in National City, California, on June 9, 1999.

The proposed action includes demolition of two inadequate piers, construction of a new pier, provision for requisite utilities, dredging, and dredged material disposal. The replacement pier would be 120 feet wide and 1,500 feet long with a power intensive electrical supply (19,800 amps at 450 volts). Dredging to 37 feet (11.3 meters) below mean lower low water would be necessary to accommodate modern Navy ships. A total volume of approximately 763,545 cubic yards of sediment would be dredged, of which an estimated 47,966 cubic yards is unsuitable for ocean disposal.

The purpose of the proposed action is to develop a replacement pier to provide berthing, logistics support, and maintenance and utility requirements for ships currently homeported in the San Diego Region. The need for the proposed action is to address the current shortfall in pier infrastructure and capacity in the San Diego Naval Complex.

Two alternatives for pier replacement are considered in the DEIS: (1) Replacement of existing Piers 10 and 11 with a new pier, or (2) replacement of existing Piers 11 and 12 with a new pier. Two alternative pier construction techniques are considered: a pile-supported pier and a mole pier. Dredged material suitable for ocean disposal is proposed to be disposed at the LA-5 Ocean Dredged Material Disposal Site. Sediments unsuitable for ocean disposal are proposed to be dewatered and disposed at an approved upland disposal site. Two dewatering options for unsuitable sediments are evaluated: confined disposal facilities and barge dewatering. Various disposal options for unsuitable dredged sediment are also evaluated, including confined nearshore disposal sites, upland landfill and reclamation sites, and upland reuse areas. The DEIS also considers the No-Action Alternative which is no demolition, no pier construction, and no dredging and disposal.

The DEIS evaluates the environmental effects associated with each of the alternatives and options. Issues addressed in the DEIS include: Water resources, biological resources, topography/geology, air quality, health and safety, land use, noise, transportation, aesthetics, cultural resources, utilities, socioeconomics, and environmental justice. Impact analyses include an evaluation of the direct, indirect, short-term, and cumulative impacts.

No decision on the proposed action will be made until the NEPA process is complete. The decision will be announced when the Secretary of the Navy releases the Record of Decision.

The DEIS has been distributed to various federal, state and local agencies, elected officials, and special interest groups. The DEIS is available for public review at the following public libraries:

National City Public Library, 200 E. 12th Street, National City, California

San Diego Library (Science & Industry Section), 820 E Street San Diego, California.

The Navy will conduct one public hearing to receive oral and written comments concerning the DEIS. A Spanish-language interpreter will be available at the hearing. The public hearing will begin with a brief presentation followed by a request for comments on the DEIS. Federal, state and local agencies, and interested parties are invited to be present or represented at the hearing. Those who intend to speak will be asked to submit a speaker card (available at the door.) Oral comments will be transcribed by a stenographer. To assure accuracy of the record, all statements should be submitted in writing. All statements, both oral and written, will become part of the public record in the study. Equal weight will be given to both oral and written comments. In the interest of available time, each speaker will be asked to limit oral comments to three minutes. Longer comments should be summarized at the public hearing and submitted in writing either at the hearing or mailed to Naval Facilities Engineering Command, Southwest Division, 2585 Callagan Highway, Building 99, San Diego, California 92136-5198 (Attn: Ms. Grace S. Peñafuerte, Code 5SPR.GP.) Written comments are requested not later than December 4, 2000.

Dated: October 16, 2000.
J.L. Roth,
Judge Advocate General's Corps, U.S. Navy, Federal Register Liaison Officer.

[FR Doc. 00-27081 Filed 10-19-00; 8:45 am]

BILLING CODE 3810-FF-P